DEPARTMENT OF EDUCATION

[CFDA No. 84.287]

21st Century Community Learning Centers; Notice Inviting Applications for New Awards for Fiscal Year (FY) 2001

Purpose of Program: The 21st Century Community Learning Centers Program was established by Congress to award grants to rural and inner-city public schools, or consortia of such schools, to enable them to plan, implement, or expand projects that benefit the educational, health, social services, cultural and recreational needs of the community. School-based community learning centers can provide expanded learning opportunities for children, youth and their families as well as a safe, drug-free, supervised and cost-effective afterschool, weekend or summer haven.

For fiscal year (FY) 2001 we strongly encourage applicants to design projects that focus on the invitational priority in the PRIORITIES section of this application notice.

Eligible Applicants: Only rural or inner-city public elementary or secondary schools, consortia of those schools, or local educational agencies (LEAs) applying on their behalf, are eligible to receive a grant under the 21st Century Community Learning Centers Program. An LEA considering serving more than one school is encouraged to submit a consortium application on their behalf. Grants awarded under the program may be used to plan, implement, or expand community learning centers. Applicants must demonstrate that they meet the statutory program purpose of serving either “rural” or “inner-city” schools or a consortium of such schools.

Applications Available: January 4, 2001.

Deadline for Transmittal of Applications: March 30, 2001.

Deadline for Intergovernmental Review: May 31, 2001.

Available Funds: Approximately $205 million.

Estimated Range of Awards: $35,000-$2,000,000, depending on the number of Centers included in each grant application.

Estimated Average Size of Awards: $500,000, for a grant that will support 4 Centers. The average funding for a single Center is $125,000.

Estimated Number of Awards: Approximately 400 awards.

Project Period: Up to 36 months. Please note that all applicants for multi-year awards are required to provide detailed budget information for the total grant period requested. The Department will negotiate at the time of the initial award the funding level for each year of the grant award.

Note: The Department is not bound by any estimates in this notice.

Page Limit: The application narrative (Part IV of the application) is where you, the applicant, address the selection criteria reviewers use to evaluate your application. Applicants are strongly encouraged to limit Part IV to the equivalent of no more than 20 pages.

Applicable Regulations: (a) The Education Department General Administrative Regulations (EDGAR) in 34 CFR parts 75, 77, 79, 80, 81, 82, 85, and 86, and (b) the regulations in 34 CFR part 299.

Priorities

The Absolute Priority, published in the notice of final priorities for this program in the Federal Register on December 2, 1997 (62 FR 63773) and repeated below, applies to this competition. In addition, we give preference to applications that meet the Competitive Priority (34 CFR 75.105(c)(2)(ii) and 34 CFR 299.3(a)).

Absolute Priority: Under 34 CFR 75.105(c)(3), we consider only applications that meet the absolute priority in the next paragraph.

Activities To Expand Learning Opportunities: We fund only those applications for 21st Century Community Learning Centers grants that include, among the array of services required and authorized by the statute, activities that offer significant expanded learning opportunities for children and youth in the community and that contribute to reduced drug use and violence.

Invitational Priority: Within the absolute priority, Activities to Expand Learning Opportunities, in accordance with the Department of Education Appropriations Act, 2001, the Secretary strongly encourages applications that are submitted jointly by a local educational agency (or a consortium of local educational agencies) and at least one community-based organization that has experience in providing before-and afterschool services. We are particularly interested in applications that meet this invitational priority.

Under 34 CFR 75.105(c)(1) we do not give to an application that meets the invitational priority a competitive or absolute preference over other applications.

Competitive Priority: Under 34 CFR 75.105(c)(2)(i), we give preference to applications that meet the competitive priority described below.

Competitive Priority. Projects that will use a significant portion of the program funds to address substantial problems in an Empowerment Zone, including a Supplemental Empowerment Zone, or an Enterprise Community designated by the United States Department of Housing and Urban Development or the United States Department of Agriculture. We select an application that meets this priority over an application of comparable merit that does not meet this competitive priority.

Note: A list of areas that have been designated as Empowerment Zones and Enterprise Communities is published as an appendix to this notice.

Applicable Funding Criteria: See application package.

Supplementary Information: The 21st Century Community Learning Centers Program is authorized under Title X, Part I (20 U.S.C. 8241) of the Elementary and Secondary Education Act. Grantees under this program must use grant funds to plan, implement, or expand community learning centers which are required to carry out at least four of the activities listed in section 10905 of the Elementary and Secondary Education Act (20 U.S.C. 8245), as listed below:

(1) Literacy education programs;

(2) Senior citizen programs;

(3) Children's day care services;

(4) Integrated education, health, social service, recreational, or cultural programs;

(5) Summer and weekend school programs in conjunction with recreation programs;

(6) Nutrition and health programs;

(7) Expanded library service hours to serve community needs;

(8) Telecommunications and technology education programs for individuals of all ages;

(9) Parenting skills education programs;

(10) Support and training for child day care providers;

(11) Employment counseling, training, and placement;

(12) Services for individuals who leave school before graduating from secondary school, regardless of the age of such individual; and

(13) Services for individuals with disabilities.

Applicants should propose an array of inclusive and supervised services that include expanded learning opportunities (such as instructional enrichment programs, tutoring, or homework assistance) but may also include recreational, musical and artistic activities, and opportunities to use advanced technology, particularly for those community members who do not have access to computers or telecommunications at home.

Application Requirements. In accordance with the Department of Education Appropriations Act, 2001, applicants must describe in their application the elements of their projects that are designed to assist students to meet or exceed state and local standards in core academic subjects, as appropriate to the needs of the participating children.

For the purpose of the program, the term “community learning center” “means an entity within a public elementary or secondary school building that

“(1) provides educational, recreational, health, and social service programs for residents of all ages within a local community; and

“(2) is operated by a local educational agency in conjunction with local governmental agencies, businesses, vocational education programs, institutions of higher education, community colleges, and cultural, recreational, and other community and human service entities” (20 U.S.C. 8246).

Geographic distribution: In awarding grants, the Secretary assures an equitable distribution of assistance among the States, among urban and rural areas of a State, and among urban and rural areas of the United States (20 U.S.C. 8243(b)).

FOR FURTHER INFORMATION CONTACT: Amanda Clyburn (Telephone: (202) 260-3804) or Peter Eldridge (Telephone: (202) 260-2514), U.S. Department of Education, 400 Maryland Avenue, SW., Washington, DC 20202-6175. E-mail: 21stCCLC@ed.gov.

If you use a telecommunications device for the deaf (TDD), you may call the Federal Information Relay Service (FIRS) at 1-800-877-8339.

For Applications Contact: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html.

Or you may contact ED Pubs at its e-mail address: edpubs@inet.ed.gov

If you request an application from ED Pubs, be sure to identify this competition as follows: CFDA number 84.287.

Individuals with disabilities may obtain this document in an alternative format (e.g., Braille, large print, audiotape, or computer diskette) on request to the program contact person listed under FOR FURTHER INFORMATION CONTACT.

Individuals with disabilities also may obtain a copy of the application package in an alternative format by contacting that person. However, the Department is not able to reproduce in an alternative format the standard forms included in the application package.

Electronic Access to This Document

You may view this document, as well as all other Department of Education documents published in the Federal Register, in text or Adobe Portable Document Format (PDF) on the Internet at either of the following sites: http://ocfo.ed.gov/fedreg.htm http://www.ed.gov/news.html.

To use the PDF you must have the Adobe Acrobat Reader, which is available free at either of the previous sites. If you have questions about using the PDF, call the U.S. Government Printing Office (GPO), toll free, at 1-888-293-6498; or in the Washington, D.C., area at (202) 512-1530.

Note: The official version of this document is the document published in the Federal Register. Free Internet access to the official edition of the Federal Register and the Code of Federal Regulations is available on GPO Access at: http://www.access.gpo.gov /nara/index.html.

Program Authority: 20 U.S.C. 8241-8246.

Dated: December 28, 2000.
Michael Cohen,
Assistant Secretary for Elementary and Secondary Education.

Appendix—Empowerment Zones and Enterprise Communities

Urban and Rural Empowerment Zones ­(* indicates a rural zone)

California: Los Angeles, Oakland, Santa Ana, Riverside County*

Connecticut: New Haven

Florida: Miami/Dade County

Georgia: Atlanta, Cordele*

Illinois: Chicago, East St. Louis, Ullin*

Indiana: Gary, East Chicago

Kentucky: Kentucky Highlands* (Clinton, Jackson, and Wayne Counties)

Maryland: Baltimore

Massachusetts: Boston

Michigan: Detroit

Minnesota: Minneapolis

Mississippi: Mid-Delta* (Bolivar, Holmes, Humphreys, LeFlore, Sunflower, Washington Counties)

Missouri/Kansas: Kansas City

Missouri: St. Louis

New Jersey: Cumberland County

New York: New York (Harlem, Bronx)

North Dakota: Lake Agassiz *

Ohio: Cleveland, Cincinnati, Columbus

Ohio/West Virginia: Ironton/Huntington

Pennsylvania/New Jersey: Philadelphia/Camden

South Carolina: Columbia/Sumter*

South Dakota: Oglala Sioux Reservation in Pine Ridge*

Tennessee: Knoxville

Texas: Houston, El Paso, Rio Grande Valley* (Cameron, Hidalgo, Starr, and Willacy Counties)

Virginia: Norfolk/Portsmouth

Urban and Rural Enterprise Communities (* indicates a rural community)

Alabama: Birmingham, Chambers County*, Greene County*, Sumter County*

Alaska: Juneau*

Arizona: Arizona Border* (Cochise, Santa Cruz and Yuma Counties), Phoenix, Window Rock*

Arkansas: East Central* (Cross, Lee, Monroe, and St. Francis Counties), Mississippi County*, Pulaski County

California: Imperial County*, Los Angeles, Huntington Park, San Diego, San Francisco, Bayview, Hunter's Point, Watonsville*, Orange Cove*

Colorado: Denver

Connecticut: Bridgeport, New Haven

Delaware: Wilmington

District of Columbia: Washington

Florida: Jackson County*, Miami, Dade County, Tampa, Immokalee*

Georgia: Albany, Central Savannah River* (Burke, Hancock, Jefferson, McDuffie, Tallafero, and Warren Counties), Crisp County*, Dooley County*

Hawaii: Kaunakakai*

Illinois: East St. Louis, Springfield

Indiana: Indianapolis, Austin*

Iowa: Des Moines

Kansas: Leoti*

Kentucky: Louisville, Bowling Green*

Louisiana: Macon Ridge* (Catahoula, Concordia, Franklin, Morehouse, and Tensas Parishes), New Orleans, Northeast Louisiana Delta* (Madison Parish), Ouachita Parish

Maine: Lewiston*

Massachusetts: Lowell, Springfield

Michigan: Five Cap*, Flint, Muskegon, Harrison*

Minnesota: Minneapolis, St. Paul

Mississippi: Jackson, North Delta Area* (Panola, Quitman, and Tallahatchie Counties)

Missouri: East Prairie*, St. Louis

Montana: Poplar*

Nebraska: Omaha

Nevada: Clarke County, Las Vegas

New Hampshire: Manchester

New Jersey: Newark

New Mexico: Albuquerque, La Jicarita* (Mora, Rio Arriba, Taos Counties), Deming*

New York: Albany, Schenectady, Troy, Buffalo, Newburg, Kingston, Rochester

North Carolina: Charlotte, Edgecombe, Halifax, Wilson*, Robeson Counties

Ohio: Akron, Columbus, Greater Portsmouth* (Scioto County)

Oklahoma: Choctaw, McCurtain Counties*, Oklahoma City, Ada*

Oregon: Josephine County*, Portland

Pennsylvania: Lock Haven*, Harrisburg, Pittsburgh, Uniontown*

Rhode Island: Providence

South Carolina: Hallandale*, Charleston, Williamsburg, Florence County*

South Dakota: Beadle, Spink Counties*

Tennessee: Fayette*, Haywood Counties*, Memphis, Nashville, Rutledge*

Tennessee/Kentucky: Scott, McCreary Counties*

Texas: Dallas, El Paso, San Antonio, Waco, Uvalde*

Utah: Ogden

Vermont: Burlington

Virginia: Accomack* (Northhampton County), Norfolk

Washington: Lower Yakima County*, Seattle, Tacoma, Collie*

West Virginia: Charleston*, Huntington, McDowell County*, West Central Appalachia* (Braxton, Clay, Fayette, Nicholas, and Roane)

Wisconsin: Milwaukee, Keshena*

[FR Doc. 01-128 Filed 1-2-01; 8:45 am]

BILLING CODE 4000-01-P